DEPARTMENT OF ENERGY

Federal Energy Regulatory Commission

Combined Notice of Filings

Take notice that the Commission has received the following Natural Gas Pipeline Rate and Refund Report filings:

Filings Instituting Proceedings

Docket Numbers: RP13-836-000.

Applicants: Southern Natural Gas Company, LLC.

Description: Map Update—2013 to be effective 6/1/2013.

Filed Date: 4/30/13.

Accession Number: 20130430-5041.

Comments Due: 5 p.m. ET 5/13/13.

Docket Numbers: RP13-837-000.

Applicants: Texas Gas Transmission, LLC.

Description: Implement PAL and HOT on Laterals to be effective 6/1/2013.

Filed Date: 4/30/13.

Accession Number: 20130430-5047.

Comments Due: 5 p.m. ET 5/13/13.

Docket Numbers: RP13-838-000.

Applicants: WBI Energy Transmission, Inc.

Description: 2013 System Maps to be effective 4/30/2013.

Filed Date: 4/30/13.

Accession Number: 20130430-5079.

Comments Due: 5 p.m. ET 5/13/13.

Docket Numbers: RP13-839-000.

Applicants: ANR Pipeline Company.

Description: Cashout Surcharge 2013 to be effective 6/1/2013.

Filed Date: 4/30/13.

Accession Number: 20130430-5084.

Comments Due: 5 p.m. ET 5/13/13.

Docket Numbers: RP13-840-000.

Applicants: Northern Natural Gas Company.

Description: 20130430 Negotiated Rate to be effective 5/1/2013.

Filed Date: 4/30/13.

Accession Number: 20130430-5085.

Comments Due: 5 p.m. ET 5/13/13.

Docket Numbers: RP13-841-000.

Applicants: Florida Gas Transmission Company, LLC.

Description: New Service Agreement to be effective 5/1/2013.

Filed Date: 4/30/13.

Accession Number: 20130430-5129.

Comments Due: 5 p.m. ET 5/13/13.

Docket Numbers: RP13-842-000.

Applicants: Florida Gas Transmission Company, LLC.

Description: Update Non-Conforming List to be effective 5/1/2013.

Filed Date: 4/30/13.

Accession Number: 20130430-5131.

Comments Due: 5 p.m. ET 5/13/13.

Docket Numbers: RP13-843-000.

Applicants: Golden Pass Pipeline LLC.

Description: 2013 Annual Operational Purchases and Sales Report.

Filed Date: 4/30/13.

Accession Number: 20130430-5143.

Comments Due: 5 p.m. ET 5/13/13.

Docket Numbers: RP13-844-000.

Applicants: Natural Gas Pipeline Company of America.

Description: EOG Negotiated Rate Filing to be effective 5/1/2013.

Filed Date: 4/30/13.

Accession Number: 20130430-5144.

Comments Due: 5 p.m. ET 5/13/13.

Docket Numbers: RP13-845-000.

Applicants: ETC Tiger Pipeline, LLC.

Description: ETC Tiger 2013—System Map Filing to be effective 6/1/2013.

Filed Date: 4/30/13.

Accession Number: 20130430-5152.

Comments Due: 5 p.m. ET 5/13/13.

Docket Numbers: RP13-846-000.

Applicants: Midcontinent Express Pipeline LLC.

Description: Fuel Tracking Filing to be effective 6/1/2013.

Filed Date: 4/30/13.

Accession Number: 20130430-5163.

Comments Due: 5 p.m. ET 5/13/13.

Docket Numbers: RP13-847-000.

Applicants: Black Marlin Pipeline Company.

Description: Annual Cash-Out Report of Black Marlin Pipeline Company.

Filed Date: 4/30/13.

Accession Number: 20130430-5187.

Comments Due: 5 p.m. ET 5/13/13.

Docket Numbers: RP13-848-000.

Applicants: Cheyenne Plains Gas Pipeline Company, L.

Description: CPG Annual Fuel and L&U Filing to be effective 6/1/2013.

Filed Date: 4/30/13.

Accession Number: 20130430-5219.

Comments Due: 5 p.m. ET 5/13/13.

Docket Numbers: RP13-849-000.

Applicants: Algonquin Gas Transmission, LLC.

Description: Brooklyn Union April 2013 Releases to be effective 5/1/2013.

Filed Date: 4/30/13.

Accession Number: 20130430-5246.

Comments Due: 5 p.m. ET 5/13/13.

Docket Numbers: RP13-850-000.

Applicants: Discovery Gas Transmission LLC.

Description: System Map Update to be effective 6/1/2013.

Filed Date: 4/30/13.

Accession Number: 20130430-5275.

Comments Due: 5 p.m. ET 5/13/13.

Docket Numbers: RP13-851-000.

Applicants: Fayetteville Express Pipeline LLC.

Description: FEP 2013 Semi-Annual Fuel Filing 4/30/13 to be effective 6/1/2013.

Filed Date: 4/30/13.

Accession Number: 20130430-5297.

Comments Due: 5 p.m. ET 5/13/13.

Docket Numbers: RP13-852-000.

Applicants: Chandeleur Pipe Line Company.

Description: Chandeleur Section 4 Tariff System Map to be effective 6/1/2013.

Filed Date: 4/30/13.

Accession Number: 20130430-5309.

Comments Due: 5 p.m. ET 5/13/13.

Docket Numbers: RP13-853-000.

Applicants: Dominion Transmission, Inc.

Description: DTI—System Map Update to be effective 6/1/2013.

Filed Date: 4/30/13.

Accession Number: 20130430-5311.

Comments Due: 5 p.m. ET 5/13/13.

Docket Numbers: RP13-854-000.

Applicants: Dominion Cove Point LNG, LP.

Description: DCP—System Map Update to be effective 6/1/2013.

Filed Date: 4/30/13.

Accession Number: 20130430-5314.

Comments Due: 5 p.m. ET 5/13/13.

Docket Numbers: RP13-855-000.

Applicants: Florida Gas Transmission Company, LLC.

Description: Map Filing on 4-30-13 to be effective 6/1/2013.

Filed Date: 4/30/13.

Accession Number: 20130430-5340.

Comments Due: 5 p.m. ET 5/13/13.

Docket Numbers: RP13-856-000.

Applicants: Trunkline Gas Company, LLC.

Description: Map Filing on 4-30-13 to be effective 6/1/2013.

Filed Date: 4/30/13.

Accession Number: 20130430-5346.

Comments Due: 5 p.m. ET 5/13/13.

Docket Numbers: RP13-857-000.

Applicants: Sea Robin Pipeline Company, LLC.

Description: Map Filing on 4-30-13 to be effective 6/1/2013.

Filed Date: 4/30/13.

Accession Number: 20130430-5350.

Comments Due: 5 p.m. ET 5/13/13.

Docket Numbers: RP13-858-000.

Applicants: Great Lakes Gas Transmission Limited Par.

Description: Map Update to be effective 6/1/2013.

Filed Date: 4/30/13.

Accession Number: 20130430-5379.

Comments Due: 5 p.m. ET 5/13/13.

Docket Numbers: RP13-859-000.

Applicants: ETC Tiger Pipeline, LLC.

Description: ETC Tiger 2013 Semi-Annual Fuel Filing 4/30/2013 to be effective 6/1/2013.

Filed Date: 4/30/13.

Accession Number: 20130430-5456.

Comments Due: 5 p.m. ET 5/13/13.

Docket Numbers: RP13-860-000.

Applicants: Golden Pass Pipeline LLC.

Description: 2013 Annual Retainage Rate Adjustment to be effective 6/1/2013.

Filed Date: 4/30/13.

Accession Number: 20130430-5478.

Comments Due: 5 p.m. ET 5/13/13.

Docket Numbers: RP13-861-000.

Applicants: Trailblazer Pipeline Company LLC.

Description: Trailblazer Pipeline Company LLC submits tariff filing per 154.204: Rate Schedule FTB Original Filing of Sheet-based to Section-based to be effective 5/1/2013.

Filed Date: 4/30/13.

Accession Number: 20130430-5488.

Comments Due: 5 p.m. ET 5/13/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated May 1, 2013.
Nathaniel J. Davis, Sr.,
Deputy Secretary.

[FR Doc. 2013-11008 Filed 5-8-13; 8:45 am]

BILLING CODE 6717-01-P